DEPARTMENT OF TRANSPORTATION

Federal Aviation Administration

14 CFR Part 39

[Docket No. FAA-2006-26356; Directorate Identifier 2006-NM-166-AD; Amendment 39-14963; AD 2007-05-02]

RIN 2120-AA64

Airworthiness Directives; Empresa Brasileira de Aeronautica S.A. (EMBRAER) Model ERJ 170 and ERJ 190 Airplanes

AGENCY: Federal Aviation Administration (FAA), Department of Transportation (DOT).

ACTION: Final rule.

SUMMARY: The FAA is adopting a new airworthiness directive (AD) for all EMBRAER Model ERJ 170 and ERJ 190 airplanes. This AD requires repetitive detailed inspections for blockage of the pitot drain holes of certain air data smart probes (ADSPs), removing accumulated moisture from the pneumatic passages of the ADSPs, related investigative actions, and corrective actions if necessary. This AD results from reports of erroneous air speed indications caused by blockage of the pitot sensors due to freezing of accumulated moisture in the ADSP pneumatic passages. We are issuing this AD to prevent an erroneous air speed indication, which could reduce the flightcrew's ability to control the airplane.

DATES: This AD becomes effective April 5, 2007.

The Director of the Federal Register approved the incorporation by reference of certain publications listed in the AD as of April 5, 2007.

ADDRESSES: You may examine the AD docket on the Internet at http://dms.dot.gov or in person at the Docket Management Facility, U.S. Department of Transportation, 400 Seventh Street SW., Nassif Building, Room PL-401, Washington, DC.

Contact Empresa Brasileira de Aeronautica S.A. (EMBRAER), P.O. Box 343—CEP 12.225, Sao Jose dos Campos—SP, Brazil, for service information identified in this AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all EMBRAER Model ERJ 170 and ERJ 190 airplanes. That NPRM was published in the Federal Register on November 20, 2006 (71 FR 67075). That NPRM proposed to require repetitive detailed inspections for blockage of the pitot drain holes of certain air data smart probes (ADSPs), removing accumulated moisture from the pneumatic passages of the ADSPs, related investigative actions, and corrective actions if necessary.

Comments

We provided the public the opportunity to participate in the development of this AD. We received no comments on the NPRM or on the determination of the cost to the public.

Conclusion

We have carefully reviewed the available data and determined that air safety and the public interest require adopting the AD as proposed.

Costs of Compliance

This AD affects about 93 airplanes of U.S. registry. The required actions take about 2 work hours per airplane, at an average labor rate of $80 per work hour. Based on these figures, the estimated cost of the AD for U.S. operators is $14,880, or $160 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-05-02 Empresa Brasileira de Aeronautica S.A. (EMBRAER): Amendment 39-14963. Docket No. FAA-2006-26356; Directorate Identifier 2006-NM-166-AD.

Effective Date

(a) This AD becomes effective April 5, 2007.

Affected ADs

(b) None.

Applicability

(c) This AD applies to all EMBRAER Model ERJ 170-100 LR, -100 STD, -100 SE, -100 SU, -200 LR, -200 STD, and -200 SU airplanes; and Model ERJ 190-100 STD, -100 LR, and -100 IGW airplanes; certificated in any category.

Unsafe Condition

(d) This AD results from reports of erroneous air speed indications caused by blockage of the pitot sensors due to freezing of accumulated moisture in the air data smart probe (ADSP) pneumatic passages. We are issuing this AD to prevent an erroneous air speed indication, which could reduce the flightcrew's ability to control the airplane.

Compliance

(e) You are responsible for having the actions required by this AD performed within the compliance times specified, unless the actions have already been done.

Inspect To Determine Part Number (P/N) of ADSPs

(f) Within 600 flight hours after the effective date of this AD, inspect to determine the part number of the ADSPs. For any Rosemount Aerospace ADSP having P/N 2015G2H2H-4(), 2015G2H2H-5(), 2015G2H2H-6(), or 2015G2H2H-7(), do the applicable actions required by this AD. For any ADSP having any other part number, no further action is required by this AD.

Note 1: The parentheses used in the identified ADSP model part numbers indicate the presence or absence of an additional letter(s), which varies with the basic ADSP model designation. The letter(s) defines minor changes that do not affect interchangeability or eligibility of the ADSP. Therefore, this AD still applies regardless of the presence or absence of these letters on the ADSP model designation.

Detailed Inspection, Moisture Removal, and Related Investigative/Corrective Actions

(g) Within 600 flight hours after the effective date of this AD, perform a detailed inspection for blockage of the pitot drain holes of the ADSP, remove accumulated moisture from the pneumatic passages of the ADSP, and, before further flight, do all related investigative actions and applicable corrective actions. Perform all required actions in accordance with the Accomplishment Instructions of EMBRAER Service Bulletin 170-34-0007, dated April 28, 2005 (for Model ERJ 170 airplanes); or EMBRAER Service Bulletin 190-34-0003, dated December 2, 2005 (for Model ERJ 190 airplanes); as applicable. Repeat all required actions thereafter at intervals not to exceed 600 flight hours.

Note 2: EMBRAER Service Bulletins 170-34-0007 and 190-34-0003 refer to Rosemount Aerospace Service Bulletin 2015G2H2H-34-04, Revision 1, dated April 6, 2005, as an additional source of service information for accomplishing the required actions.

Note 3: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Brazilian airworthiness directives 2006-05-05, effective June 14, 2006, and 2006-05-08, effective June 19, 2006, also address the subject of this AD.

Material Incorporated by Reference

(j) You must use EMBRAER Service Bulletin 170-34-0007, dated April 28, 2005; or EMBRAER Service Bulletin 190-34-0003, dated December 2, 2005; as applicable; to perform the actions that are required by this AD, unless the AD specifies otherwise. The Director of the Federal Register approved the incorporation by reference of these documents in accordance with 5 U.S.C. 552(a) and 1 CFR part 51. Contact Empresa Brasileira de Aeronautica S.A. (EMBRAER), P.O. Box 343—CEP 12.225, Sao Jose dos Campos—SP, Brazil, for a copy of this service information. You may review copies at the FAA, Transport Airplane Directorate, 1601 Lind Avenue, SW., Renton, Washington 98057-3356; or at the National Archives and Records Administration (NARA). For information on the availability of this material at NARA, call 202-741-6030, or go to: http://www.archives.gov/federal-register/cfr/ibr-locations.html.

Issued in Renton, Washington, on February 16, 2007.
Ali Bahrami,
Manager, Transport Airplane Directorate, Aircraft Certification Service.

[FR Doc. E7-3363 Filed 2-28-07; 8:45 am]

BILLING CODE 4910-13-P